DEPARTMENT OF TRANSPORTATION

Federal Aviation Administration

Fifteenth Meeting: RTCA Special Committee (209) ATCRBS/Mode S Transponder MOPS (Joint With EUROCAE WG-49, EUROCAE WG-51 Subgroup 1, and RTCA SC-186 Working Group 3)

AGENCY: Federal Aviation Administration (FAA), U.S. Department of Transportation (DOT).

ACTION: Notice of Fifteenth RTCA Special Committee 209 Meeting.

SUMMARY: The FAA is issuing this notice to advise the public of the Fifteenth RTCA Special Committee 209 meeting.

DATES: The meeting will be held February 1-5, 2016 from 9:00 a.m.-5:00 p.m.

ADDRESSES: The meeting will be held at RTCA, Inc., 1150 18th Street NW., Suite 910, Washington, DC, 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., khofmann@rtca.org, (202) 330-0654.

SUPPLEMENTARY INFORMATION: Pursuant to section 10(a) (2) of the Federal Advisory Committee Act (Pub. L. 92-463, 5 U.S.C., App.), notice is hereby given for a meeting of RTCA Special Committee 209. The agenda will include the following:

Monday-Friday, February 1-5, 2016

1. Host and Co-Chairs Welcome, Introductions, and Remarks

2. Review and Approval of the Agenda

3. Discussion of current issues proposed to be addressed in this revision of DO 181/ED 73 and DO 260/ED 102

a. Mode-S reply rate capabilities

b. Removal of Mode A/C/S All Call

c. Operations above 60,000 feet

d. Description of TABS/LPAT

e. 1090 MHz spectrum mitigation

f. Phase modulation method on 1090 MHz

g. Enhanced reception techniques

h. Support for ACAS X

i. Weather data to support future operations

j. Support for advanced FIM

k. Other topics as they present themselves

4. Other Business

a. Request for Proposed Changes to DO 181/ED 73 and DO 260/ED 102

5. Date, Place, Time and Frequency of Future Meetings

6. Adjournment

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on December 29, 2015.
Latasha Robinson,
Management & Program Analyst, Next Generation, Enterprise Support Services Division, Federal Aviation Administration.

[FR Doc. 2015-33063 Filed 12-31-15; 8:45 am]

BILLING CODE 4910-13-P